DEPARTMENT OF HEALTH AND HUMAN SERVICES

Substance Abuse and Mental Health Services Administration

Fiscal Year (FY) 2000 Funding Opportunities

AGENCY: Substance Abuse and Mental Health Services Administration, HHS.

ACTION: Notice of Funding Availability.

SUMMARY: The Substance Abuse and Mental Health Services Administration (SAMHSA) Center for Substance Abuse Treatment (CSAT) announces the availability of FY 2000 funds for grants for the following activity. This activity is discussed in more detail under Section 3 of this notice. This notice is not a complete description of the activity; potential applicants must obtain a copy of the Program Announcement, including Part I, Programmatic Guidance for Grants to Expand Substance Abuse Treatment Capacity in Targeted Areas of Need, and Part II, General Policies and Procedures Applicable to all SAMHSA Applications for Discretionary Grants and Cooperative Agreements, before preparing an application.

Activity | Application Deadline | Estimated Funds Available, FY 2000 | Estimated No. of Awards | Project Period
Targeted Capacity | April 19, 2000; | up to $30,000,000 | up to 55-60 | up to 3 years
Expansion Program | recurring submission dates of September 10, January 10, and May 10 thereafter |  |  |

The actual amount available for awards and their allocation may vary, depending on unanticipated program requirements and the number and quality of applications received. FY 2000 funds for the activity discussed in this announcement were appropriated by the Congress under Public Law No. 106-113. SAMHSA's policies and procedures for peer review and Advisory Council review of grant and cooperative agreement applications were published in the Federal Register (Vol. 58, No. 126) on July 2, 1993.

The Public Health Service (PHS) is committed to achieving the health promotion and disease prevention objectives of Healthy People 2000, a PHS-led national activity for setting priority areas. The SAMHSA Centers' substance abuse and mental health services activities address issues related to Healthy People 2000 objectives of Mental Health and Mental Disorders; Alcohol and Other Drugs; Clinical Preventive Services; HIV Infection; and Surveillance and Data Systems. Potential applicants may obtain a copy of Healthy People 2000 (Full Report: Stock No. 017-001-00474-0) or Summary Report: Stock No. 017-001-00473-1) through the Superintendent of Documents, Government Printing Office, Washington, DC 20402-9325 (Telephone: 202-512-1800).

SAMHSA will publish additional notices of available funding opportunities for FY 2000 in subsequent issues of the Federal Register.

Note: A specially targeted HIV Targeted Capacity announcement will be published at a later time.

General Instructions: Applicants must use application form PHS 5161-1 (Rev. 6/99; OMB No. 0920-0428). The application kit contains the two-part application materials (complete programmatic guidance and instructions for preparing and submitting applications), the PHS 5161-1 which includes Standard Form 424 (Face Page), and other documentation and forms. Application kits may be obtained from the organization specified for the activity covered by this notice (see Section 3).

When requesting an application kit, the applicant must specify the particular activity for which detailed information is desired. This is to ensure receipt of all necessary forms and information, including any specific program review and award criteria.

The PHS 5161-1 application form and the full text of the activity described in Section 4 are also available electronically via SAMHSA's World Wide Web Home Page (address: http://www.samhsa.gov).

Application Submission: Applications must be submitted to: SAMHSA Programs, Center for Scientific Review, National Institutes of Health, Suite 1040, 6701 Rockledge Drive MSC-7710, Bethesda, Maryland 20892-7710. (Applicants who wish to use express mail or courier service should change the zip code to 20817.)

Application Deadlines: The deadlines for receipt of applications are listed in the table above.

Competing applications must be received by the indicated receipt date to be accepted for review. An application received after the deadline may only be accepted if it carries a legible proof-of-mailing date assigned by the carrier and that date is not later than one week prior to the deadline date. Private metered postmarks are not acceptable as proof of timely mailing.

Applications received after the deadline date are subject to assignment to the next review cycle. Applications sent to an address other than the address specified above will be returned to the applicant without review.

FOR FURTHER INFORMATION CONTACT: Requests for activity-specific technical information should be directed to the program contact person identified for the activity covered by this notice (see Section 3).

Requests for information concerning business management issues should be directed to the grants management contact person identified for the activity covered by this notice (see Section 3).

Programmatic Information

1. Program Background and Objectives

SAMHSA's mission within the Nation's health system is to improve the quality and availability of prevention, early intervention, treatment, and rehabilitation services for substance abuse and mental illnesses, including co-occurring disorders, in order to improve health and reduce illness, death, disability, and cost to society.

Reinventing government, with its emphases on redefining the role of Federal agencies and on improving customer service, has provided SAMHSA with a welcome opportunity to examine carefully its programs and activities. As a result of that process, SAMHSA moved assertively to create a renewed and strategic emphasis on using its resources to generate knowledge about ways to improve the prevention and treatment of substance abuse and mental illness and to work with State and local governments as well as providers, families, and consumers to effectively use that knowledge in everyday practice.

2. Criteria for Review and Funding

2.1 General Review Criteria

Competing applications requesting funding under the specific project activity in Section 3 will be reviewed for technical merit in accordance with established PHS/SAMHSA peer review procedures. Review criteria that will be used by the peer review groups are specified in the application guidance material.

2.2 Award Criteria for Scored Applications

Applications will be considered for funding on the basis of their overall technical merit as determined through the peer review group and the appropriate National Advisory Council review process. Availability of funds will also be an award criteria. Additional award criteria specific to the programmatic activity may be included in the application guidance materials.

3. Special FY 2000 SAMHSA Activities

Grants to Expand Substance Abuse Treatment Capacity in Targeted Areas of Need (Short Title: Targeted Capacity Expansion, number PA 00-001).

• Application Deadline: The initial receipt date is April 26, 2000. Thereafter, applications will be received three times per year, on September 10, January 10, and May 10.

• Purpose: The Substance Abuse and Mental Health Services Administration's (SAMHSA) Center for Substance Abuse Treatment (CSAT) announces the availability of funds for grants to expand substance abuse treatment capacity in targeted areas for a targeted response to treatment capacity problems and/or emerging trends. This program is designed to address gaps in treatment capacity by supporting rapid and strategic responses to demands for substance abuse (including alcohol and drug) treatment services in communities with serious, emerging drug problems as well as communities with innovative solutions to unmet needs. This Program Announcement (PA) is a reissuance (with revisions) of a prior Guidance for Applicants (GFA) by the same title, “Targeted Capacity Expansion,” GFA No. TI 99-002.

• Eligible Applicants: Only units of local (cities, towns, counties) governments and Indian Tribes and tribal organizations (as defined in the Indian Self-Determination Act—25 U.S.C., section 450b) are eligible to apply. States receive substantial funding for substance abuse treatment services via the Substance Abuse Prevention and Treatment (SAPT) Block Grant. SAMHSA/CSAT is trying to target specific local needs that address national treatment priorities. Eligibility is restricted to local governmental entities. It is required, however, that applicants coordinate with their Single State Agency (SSA) for Alcohol and Drug Abuse. While SAMHSA recognizes the role of State governments in addressing substance abuse issues, eligibility is being limited in recognition of the primacy of local governments' responsibility for and interest in providing for the needs of their citizens, and because the success of the program will depend upon their authority and ability to broadly coordinate a variety of resources.

• Amount: Up to $30.0 million will be available to support awards under this program in FY 2000. Of this amount, approximately $22.1 million is available for general program applications from units of local government or Indian Tribes and tribal organizations. As specified in Congressional report language, up to $1.5 million is reserved for the Anchorage Southcentral Foundation; up to $1.5 million is reserved for the Yukon-Kuskokwim Health Corporation in Bethel, Alaska; up to $235,000 is reserved for the San Francisco Treatment on Demand Project; up to $200,000 is reserved for Center Point/Marin County Project; and up to $4.4 million is reserved for residential Pregnant and Post-Partum Women projects.

All applications requesting FY 2000 funding under the Targeted Capacity Expansion Program will be considered for funding on the basis of their overall technical merit as determined through the initial peer review and CSAT's National Advisory Council review processes. In addition to the criteria listed in the “Award Decision Criteria” section of the PA, special funding consideration is being given in FY 2000 to scored applications from units of local government that propose to work with community-based indigenous racial/ethnic providers because SAMHSA/CSAT experience and research have shown that cultural competency and an understanding of the client community increase access, retention, and positive treatment outcomes. SAMHSA/CSAT is committed to expanding the community's capacity to provide high-quality, comprehensive treatment services.

Period of Support: Support may be requested for a period of up to three (3) years.

• Catalog of Federal Domestic Assistance Number: 93.230.

• Program Contact: For questions concerning program issues, contact: Clifton Mitchell, Branch Chief, Treatment Systems Improvement Branch /Division of Practice and Systems Development, Center for Substance Abuse Treatment, Substance Abuse and Mental Health Services Administration, Rockwall II, Suite 740, 5600 Fishers Lane, Rockville, MD 20857; (301) 443-8404.

For questions regarding grants management issues, contact: Peggy Jones, Grants Management Officer, Division of Grants Management, OPS, Substance Abuse and Mental Health Services Administration, Rockwall II, 6th Floor, 5600 Fishers Lane, Rockville, Maryland 20857; (301) 443-9666.

• Application kits are available from: National Clearinghouse for Alcohol and Drug Information (NCADI), P.O. Box 2345, Rockville, MD 20857-2345, Telephone: 1-800-729-6686.

4. Public Health System Reporting Requirements

The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements.

Application guidance materials will specify if a particular FY 2000 activity is subject to the Public Health System Reporting Requirements.

5. PHS Non-use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

6. Executive Order 12372

Applications submitted in response to the FY 2000 activity listed above are subject to the intergovernmental review requirements of Executive Order 12372, as implemented through DHHS regulations at 45 CFR Part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89,5600 Fishers Lane, Rockville, Maryland 20857.

The due date for State review process recommendations is no later than 60 days after the specified deadline date for the receipt of applications. SAMHSA does not guarantee to accommodate or explain SPOC comments that are received after the 60-day cut-off.

Dated: January 13, 2000.
Richard Kopanda,
Executive Officer, SAMHSA.

[FR Doc. 00-1208 Filed 1-13-00; 2:54 pm]

BILLING CODE 4162-20-P